ENVIRONMENTAL PROTECTION AGENCY

[FRL-7508-2]

Clean Air Act Operating Permit Program; Petition for Objection to the Operating Permit for Georgia Pacific Corporation, Port Hudson Operations in East Baton Rouge Parish, LA

AGENCY: Environmental Protection Agency (EPA).

ACTION: Notice of final order on petition to object to State operating permit.

SUMMARY: This notice announces that the EPA Administrator has partially granted and partially denied the petition to object to a State operating permit issued by the Louisiana Department of Environmental Quality (LDEQ) for the Port Hudson Operations of Georgia Pacific Corporation in East Baton Rouge, Louisiana. Pursuant to section 505(b)(2) of the Clean Air Act (Act), the petitioner may seek judicial review of this response to the extent the petition has been denied, in the United States Court of Appeals for the Fifth Circuit. Any petition must be filed within 60 days of the date this notice appears in the Federal Register, pursuant to section 307(d) of the Act.

ADDRESSES: You may review copies of the final order, the petition, and other supporting information at the EPA, Region 6, 1445 Ross Avenue, Dallas, Texas 75202-2733. If you wish to examine these documents, you should make an appointment at least 24 hours before visiting day. The final order is also available electronically at the following address: http://www.epa.gov/region07/programs/artd/air/title5/petitiondb/petitiondb2002.htm.

FOR FURTHER INFORMATION CONTACT: Ms. Bonnie Braganza, Air Permitting Section, Multimedia Planning and Permitting Division, EPA, Region 6, 1445 Ross Avenue, Dallas, Texas 75202-2733, telephone (214) 665-7340, or electronic mail at braganza.bonnie@epa.gov.

SUPPLEMENTARY INFORMATION: The Act affords EPA a 45-day period to review, and object to as appropriate, operating permits proposed by State permitting authorities. Section 505(b)(2) of the Act authorizes any person to petition the EPA Administrator within 60 days after the expiration of this review period to object to State operating permits if EPA has not done so. Petitions must be based only on objections to the permit that were raised with reasonable specificity during the public comment period provided by the State, unless the petitioner demonstrates that it was impracticable to raise these issues during the comment period or the grounds for the issues arose after this period.

The Louisiana Environmental Action Network and Ms. Juanita Stewart (“Petitioners”) submitted a petition requesting that the Administrator object to the title V operating permit issued to Georgia Pacific Corporation by the LDEQ, for the Port Hudson plant operations. The petition requests the Administrator object to the Georgia Pacific permit based on the following broad assertions:

1. Invalid emission reductions were used to avoid Nonattainment New Source Review (NNSR) for emissions increases from projects occurring from 1986 through 1992.

2. Invalid emission reductions were used to avoid NNSR and Prevention of Significant Deterioration (PSD) requirements for emissions increases associated with a new towel machine project.

3. Specific conditions in the new towel machine permit should require Georgia-Pacific to undergo additional PSD review if emissions exceed certain limits.

4. No Emission Reduction Credits (ERC) are available because the Louisiana ERC bank is mismanaged and fails to require that credits be “surplus” when used.

5. ERCs were not identified specifically enough to inform the public.

6. The Title V permit incorporates an emission limit from an invalid State permit.

7. The Title V permit fails to provide for sufficient monitoring of particulate emissions from some units.

8. The LDEQ failed to provide an adequate statement of basis in the Title V permit.

On May 9, 2003, the Administrator issued an order partially granting and partially denying the petition. The order explains the reasons for EPA's conclusion that LDEQ must reopen the permit to: (1) Reconsider whether NNSR is an applicable requirement for the 1986-1992 projects, and determine the appropriate volatile organic compound emission limit based on this determination; (2) provide an adequate explanation of the periodic monitoring at issue; and (3) provide an adequate statement of basis on these particular NNSR and periodic monitoring issues. The order also explains the reasons for denying the remaining claims.

Dated: May 23, 2003.
Carl E. Edlund,
Acting Regional Administrator, Region 6.

[FR Doc. 03-14574 Filed 6-9-03; 8:45 am]

BILLING CODE 6560-50-P